GENERAL SERVICES ADMINISTRATION

[Notice-MA-2019-10; Docket No. 2019-0002; Sequence No. 32]

Relocation Allowances: Taxes on Travel, Transportation, and Relocation Expenses

AGENCY: Office of Government-wide Policy (OGP), General Services Administration (GSA).

ACTION: Notice.

SUMMARY: The purpose of this notice is to inform Federal agencies that FTR Bulletin 20-02, pertaining to travel, transportation, and relocation allowances impacted by recent changes to Federal tax law, has been published and is now available online at www.gsa.gov/ftrbulletin. This bulletin contains certain examples and tables that were removed from the FTR as a result of FTR Amendment 2020-02, published by GSA on November 25, 2019, and issued as a direct final rule. This bulletin also rescinds FTR Bulletins 18-05 and 19-02 now that FTR Amendment 2020-02 has been issued, amending the FTR in line with changes to the Internal Revenue Code.

DATES: Applicable: This notice applies to employees who are authorized reimbursement for relocation expenses under the FTR and who receive some or all reimbursements, direct payments, or indirect payments on or after January 1, 2018, and on or before December 31, 2025.

FOR FURTHER INFORMATION CONTACT: For clarification of content, please contact Mr. Rick Miller, Program Analyst, Office of Government-wide Policy, Office of Asset and Transportation Management, at 202-501-3822, or by email at travelpolicy@gsa.gov. Please cite Notice of FTR Bulletin 20-02.

Jessica Salmoiraghi,
Associate Administrator, Office of Government-wide Policy.

[FR Doc. 2019-26511 Filed 12-9-19; 8:45 am]

BILLING CODE 6820-14-P